DEPARTMENT OF COMMERCE

International Trade Administration

[A-583-856]

Certain Corrosion-Resistant Steel Products From Taiwan: Amended Final Results of Antidumping Duty Administrative Review; 2017-2018

AGENCY: Enforcement and Compliance, International Trade Administration, Department of Commerce.

SUMMARY: The Department of Commerce (Commerce) is amending the final results of the administrative review of the antidumping duty (AD) order on certain corrosion-resistant steel products (CORE) from Taiwan to correct a ministerial error.

DATES: Applicable April 29, 2020.

FOR FURTHER INFORMATION CONTACT: Shanah Lee, AD/CVD Operations, Office III, Enforcement and Compliance, International Trade Administration, U.S. Department of Commerce, 1401 Constitution Avenue NW, Washington, DC 20230; telephone: (202) 482-6386.

SUPPLEMENTARY INFORMATION:

Background

On March 24, 2020, Commerce published its Final Results of the second administrative review of the AD order on CORE from Taiwan.¹ On March 20, 2020, Prosperity Tieh Enterprise Co., Ltd. (Prosperity), one of the respondents in this administrative review, timely submitted comments alleging a ministerial error in Commerce's Final Results.²

¹ See Certain Corrosion-Resistant Steel Products from Taiwan: Final Results of Antidumping Duty Administrative Review; 2017-2018, 85 FR 16613 (March 24, 2020) (Final Results).

² See Prosperity's Letter, “Corrosion-Resistant Steel Products from Taiwan, 7/1/2017-6/30/2018 Administrative Review, Case No. A-583-856: Ministerial Error Comments,” dated March 20, 2020.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ³ With respect to final results of administrative reviews, 19 CFR 351.224(e) provides that Commerce “will analyze any comments received and, if appropriate, correct any ministerial error by amending . . . the final results of review. . . .”

³ See 19 CFR 351.224(f).

Ministerial Error

Commerce committed an inadvertent, unintentional error within the meaning of section 751(h) of the Act and 19 CFR 351.224(f) with respect to our treatment of certain U.S. sales that were invoiced prior to the imposition of section 232 duties but entered after the imposition of the 232 duties. Specifically, we inadvertently treated the amount that Prosperity charged its customers to cover 232 duties as the amount of 232 duties paid, and therefore mistakenly reduced, rather than increased, U.S. price by that amount. Accordingly, Commerce determines that, in accordance with section 751(h) of the Act and 19 CFR 351.224(e), it made a ministerial error in the Final Results. Pursuant to 19 CFR 351.224(e), Commerce is amending the Final Results to reflect the correction of this ministerial error in the calculation of the final margin assigned to Prosperity, which changes from 3.48 percent to 0.60 percent.⁴

⁴ See Memorandum, “Certain Corrosion-Resistant Steel Products from Taiwan: Prosperity Tieh Enterprise Co., Ltd.—Amended Final Results Calculation in the 2017-2018 Antidumping Duty Administrative Review,” dated concurrently with this decision.

Amended Final Results of the Review

As a result of correcting the ministerial error described above, Commerce determines that, for the period of July 1, 2017 through June 30, 2018, the following weighted-average dumping margin exists:

Exporter/producer | Weighted- average dumping margin (percent)
Prosperity Tieh Enterprise Co., Ltd | 0.60

Disclosure

We intend to disclose the calculation performed for these amended final results in accordance with 19 CFR 351.224(b).

Antidumping Duty Assessment

Normally, Commerce would issue appropriate assessment instructions to U.S. Customs and Border Protection (CBP) 15 days after the date of publication of these amended final results of review, to liquidate shipments of subject merchandise produced and/or exported by Prosperity entered, or withdrawn from warehouse, for consumption during the July 1, 2017 through June 30, 2018 period of review. However, on April 8, 2020, the Court enjoined liquidation of entries produced and exported by Prosperity, and imported by Prosperity Tieh USA, that are subject to the Final Results.⁵ Accordingly, Commerce will not instruct CBP to assess antidumping duties on those enjoined entries pending resolution of the associated liquidation.

⁵ The Court issued a statutory injunction under case number 16-00138 (April 8, 2020).

Cash Deposit Requirements

The following cash deposit requirements will be effective retroactively for all shipments of subject merchandise that entered, or withdrawn from warehouse, for consumption on or after the March 24, 2020, the date of publication of the Final Results of this administrative review, as provided for by section 751(a)(2)(C) of the Act: (1) The cash deposit rate for Prosperity will be equal to the weighted-average dumping margin established in these amended final results of review; (2) for previously reviewed or investigated companies, including those for which Commerce may have determined they had no shipments during the POR, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the “all-others” rate of 3.66 percent established in the amended final of the less-than-fair-value investigation.⁶ These cash deposit requirements, when imposed, shall remain in effect until further notice.

⁶ See Corrosion-Resistant Steel Products from Taiwan: Notice of Court Decision Not in Harmony With Final Determination of Antidumping Duty Investigation and Notice of Amended Final Determination of Investigation, 84 FR 6129 (February 26, 2019).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Administrative Protective Order

This notice also serves as a reminder to parties subject to administrative protective orders (APO) of their responsibility concerning the disposition of proprietary information disclosed under APO in accordance with 19 CFR 351.305(a)(3), which continues to govern business proprietary information in this segment of the proceeding. Timely written notification of return or destruction of APO materials or conversion to judicial protective order is hereby requested. Failure to comply with the regulations and the terms of an APO is a sanctionable violation.

Notification to Interested Parties

The amended final results and notice are issued and published in accordance with sections 751(h) and 777(i) of the Act and 19 CFR 351.224(e).

Dated: April 23, 2020.
Jeffrey I. Kessler,
Assistant Secretary for Enforcement and Compliance.

[FR Doc. 2020-09104 Filed 4-28-20; 8:45 am]

BILLING CODE 3510-DS-P